DEPARTMENT OF AGRICULTURE

Forest Service

Natapoc Ridge Forest Restoration Project, Okanogan-Wenatchee National Forests, Chelan County, WA

AGENCY: Forest Service, USDA.

ACTION: Revised notice of intent to prepare an environmental impact statement.

SUMMARY: On November 15, 2005, the USDA, Forest Service, Okanogan-Wentachee National Forests, published a Notice of Intent in the Federal Register (70 FR 69308) to prepare an environmental impact statement (EIS) for the Natapoc Ridge Forest Restoration Project. The Notice of Intent is being revised to change the expected filing and review date of the draft environmental impact statement (EIS) to April 2006 and the final EIS to July 2006. The original Notice of Intent identified these dates incorrectly as April 2005 and July 2005.

FOR FURTHER INFORMATION CONTACT: Steve Willet, Natapoc Project Leader, USDA Forest Service, Wenatchee River Ranger District, 600 Sherbourne, Leavenworth, Washington 98826; phone (509) 548-6977, Ext. 288.

Dated: November 16, 2005.
James L. Boynton,
Forest Supervisor.

[FR Doc. 05-23158 Filed 11-22-05; 8:45 am]

BILLING CODE 3410-11-M